DEPARTMENT OF COMMERCE

International Trade Administration

[A-570-904]

Certain Activated Carbon From the People's Republic of China: Final Results of Antidumping Duty Administrative Review; and Final Determination of No Shipments; 2021-2022

AGENCY: Enforcement and Compliance, International Trade Administration, Department of Commerce.

SUMMARY: The U.S. Department of Commerce (Commerce) determines that Datong Juqiang Activated Carbon Co., Ltd. (DJAC) sold certain activated carbon from the People's Republic of China (China) at less than normal value during the period of review (POR), April 1, 2021, through March 31, 2022. Commerce also determines that Jilin Bright Future Chemicals Co., Ltd. (Jilin Bright) did not make sales of subject merchandise at less than normal value during the POR. Commerce further determines that certain companies made no shipments of the subject merchandise during the POR.

DATES: Applicable November 13, 2023.

FOR FURTHER INFORMATION CONTACT: Jinny Ahn, AD/CVD Operations, Office VIII, Enforcement and Compliance, International Trade Administration, Department of Commerce, 1401 Constitution Avenue NW, Washington, DC 20230; telephone: (202) 482-0339.

SUPPLEMENTARY INFORMATION:

Background

On May 8, 2023, Commerce published the Preliminary Results.¹ For events subsequent to the Preliminary Results, see the Issues and Decision Memorandum.² On August 10, 2023,³ in accordance with section 751(a)(3)(A) of the Tariff Act of 1930, as amended (the Act), Commerce extended the deadline for issuing the final results until November 3, 2023.

¹ See Certain Activated Carbon from the People's Republic of China: Preliminary Results of Antidumping Duty Administrative Review, Preliminary Determination of No Shipments; 2021-2022, 88 FR 29632 (May 8, 2023) (Preliminary Results), and accompanying Preliminary Decision Memorandum (PDM).

² See Memorandum, “Issues and Decision Memorandum for the Final Results of the 2021-2022 Administrative Review of the Antidumping Duty Order on Certain Activated Carbon from the People's Republic of China,” dated concurrently with, and hereby adopted by, this notice (Issues and Decision Memorandum).

³ See Memorandum, “Extension of Deadline for Final Results of the 2021-2022 Antidumping Duty Administrative Review,” dated August 10, 2023.

Scope of the Order ⁴

⁴ See Notice of Antidumping Duty Order: Certain Activated Carbon from the People's Republic of China, 72 FR 20988 (April 27, 2007) (Order).

The merchandise subject to the Order is certain activated carbon. The products subject to the Order are currently classifiable under the Harmonized Tariff Schedule of the United States (HTSUS) subheading 3802.10.00. Although the HTSUS subheading is provided for convenience and customs purposes, the written description of the scope of the Order is dispositive. A full description of the scope of the Order is contained in the Issues and Decision Memorandum.

Analysis of Comments Received

All issues raised by interested parties in briefs are addressed in the Issues and Decision Memorandum. A list of the issues addressed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Verification

As provided in section 782(i) of the Act, in August 2023, Commerce conducted verification of the questionnaire responses of DJAC and Jilin Bright.⁵

⁵ See Memoranda, “Verification of the Questionnaire Responses of Datong Juqiang Activated Carbon Co., Ltd.,” dated September 27, 2023; and “Verification of the Questionnaire Responses of Jilin Bright Future Chemicals Co., Ltd.,” dated September 28, 2023.

Changes Since the Preliminary Results

Based on our verification findings, our review of the record, and comments received from interested parties regarding our Preliminary Results, we made certain revisions to the margin calculations for DJAC ⁶ and Jilin Bright,⁷ and consequently, to the rate assigned to the non-examined, separate rate respondents.⁸

⁶ See Memoranda, “Final Results Calculation Memorandum for Datong Juqiang Activated Carbon Co., Ltd.,” dated concurrently with this notice (DJAC's Final Calculation Memorandum); and “Surrogate Values for the Final Results,” dated concurrently with this notice.

⁷ See Memorandum, “Final Results Calculation Memorandum for Jilin Bright Future Chemicals Co., Ltd.,” dated concurrently with this notice (Jilin Bright's Final Calculation Memorandum).

⁸ For details on the changes made since the Preliminary Results, see the Issues and Decision Memorandum.

Final Determination of No Shipments

In the Preliminary Results, we preliminarily determined that Datong Municipal Yunguang Activated Carbon Co., Ltd., Ningxia Guanghua Cherishmet Activated Carbon Co., Ltd., and Shanxi Dapu International Trade Co., Ltd. had no shipments of subject merchandise to the United States during the POR.⁹ No party filed comments with respect to this preliminary determination and we received no information to contradict it. Therefore, we continue to find that these companies had no shipments of subject merchandise during the POR and will issue appropriate liquidation instructions that are consistent with our “automatic assessment” clarification for these final results.¹⁰

⁹ See Preliminary Results, 88 FR at 29632.

¹⁰ See Non-Market Economy Antidumping Proceedings: Assessment of Antidumping Duties, 76 FR 65694 (October 24, 2011) (Assessment Practice Refinement).

Separate Rate Respondents

In our Preliminary Results, we determined that DJAC, Jilin Bright, and seven other companies demonstrated their eligibility for separate rates.¹¹ We received no information or arguments since the issuance of the Preliminary Results that provide a basis for reconsideration of these determinations. Therefore, for these final results, we continue to find that the seven companies listed in the table in the “Final Results” section of this notice are each eligible for a separate rate, in addition to DJAC and Jilin Bright.

¹¹ See Preliminary Results PDM at 4-8.

Rate for Non-Examined Separate Rate Respondents

Under section 735(c)(5)(A) of the Act, Commerce's usual practice in determining the rate for separate rate respondents not selected for individual examination is to average the weighted-average dumping margins for the selected companies, excluding rates that are zero, de minimis, or based entirely on facts available.¹² In the Preliminary Results,¹³ and consistent with Commerce's practice,¹⁴ we assigned the non-examined, separate rate companies a weighted-average rate based on the publicly available ranged U.S. sales quantities of the mandatory respondents in this review, as both mandatory respondents, DJAC and Jilin Bright, had preliminary weighted-average dumping margins which were not zero, de minimis, or based entirely on facts available. No parties commented on the methodology for calculating this separate rate. For these final results, the calculated weighted-average dumping margin for Jilin Bright changed to 0.00 U.S. dollar (USD)/kg. Therefore, we have assigned the separate rate respondents a rate equal to the calculated weighted-average dumping margin for the mandatory respondent whose rate was not zero, de minimis (i.e., less than 0.5 percent), or based entirely on facts available (i.e., the weighted-average dumping margin for DJAC). This approach is consistent with the intent of, and our use of, section 735(c)(5)(A) of the Act.¹⁵

¹² See, e.g., Longkou Haimeng Mach. Co. v. United States, 581 F. Supp. 2d 1344, 1357-60 (CIT 2008) (affirming Commerce's determination to assign a 4.22 percent dumping margin to the separate rate respondents in a segment where the three mandatory respondents received dumping margins of 4.22 percent, 0.03 percent, and zero percent, respectively).

¹³ See Preliminary Results PDM at 9-10.

¹⁴ See, e.g., Certain Kitchen Appliance Shelving and Racks from the People's Republic of China: Final Determination of Sales at Less Than Fair Value, 74 FR 36656, 36660 (July 24, 2009).

¹⁵ See, e.g., Certain Frozen Warmwater Shrimp from the Socialist Republic of Vietnam: Final Results and Final Partial Rescission of Antidumping Duty Administrative Review, 76 FR 56158, 56160 (September 12, 2011).

Final Results of Review

For companies subject to this review, which established their eligibility for a separate rate, Commerce determines that the following weighted-average dumping margins exist for the period, April 1, 2021, through March 31, 2022:

Exporters | Weighted-average dumping margin (USD/kg) ¹⁶
Datong Juqiang Activated Carbon Co., Ltd | 0.23
Jilin Bright Future Chemicals Co., Ltd | 0.00
Review-Specific Rate Applicable to the Following Companies ¹⁷
Jacobi Carbons AB, Tianjin Jacobi International Trading Co. Ltd., and Jacobi Carbons Industry (Tianjin) Co., Ltd., and Jacobi Adsorbent Materials ¹⁸ | 0.23
Ningxia Huahui Environmental Technology Co., Ltd. (formerly Ningxia Huahui Activated Carbon Co., Ltd.) ¹⁹ | 0.23
Ningxia Mineral & Chemical Limited | 0.23
Shanxi Industry Technology Trading Co., Ltd | 0.23
Shanxi Sincere Industrial Co., Ltd | 0.23
Tancarb Activated Carbon Co., Ltd | 0.23
Tianjin Channel Filters Co., Ltd | 0.23

In the Preliminary Results, Commerce found that six companies for which a review was requested did not establish eligibility for a separate rate because they did not file a timely separate rate application (SRA) or a separate rate certification, as appropriate.²⁰ Further, while Bengbu Modern Environmental Co., Ltd. (Bengbu) submitted an SRA indicating that it had a sale and entry of subject merchandise,²¹ Commerce preliminarily determined that Bengbu is not eligible for a separate rate in this POR, because Bengbu did not have a suspended entry of subject merchandise during the POR, and therefore, no reviewable entry.²² No party commented on Commerce's Preliminary Results with respect to separate rates. Therefore, for these final results, we determine the seven companies identified in Appendix II to be part of the China-wide entity. Because no party requested a review of the China-wide entity, and Commerce no longer considers the China-wide entity as an exporter conditionally subject to administrative reviews,²³ we did not conduct a review of the China-wide entity. Thus, the weighted-average dumping margin for the China-wide entity (i.e., 2.42 USD/kg) ²⁴ is not subject to change as a result of this review.

¹⁶ In the second administrative review of the Order, Commerce determined that it would calculate per-unit weighted-average dumping margins and assessment rates for all future reviews. See Certain Activated Carbon from the People's Republic of China: Final Results and Partial Rescission of Second Antidumping Duty Administrative Review, 75 FR 70208, 70211 (November 17, 2010) (Carbon from China AR2), and accompanying Issues and Decision Memorandum (IDM) at Comment 3.

¹⁷ This is the rate applicable to the non-examined separate rate respondents, as discussed above.

¹⁸ In the third administrative review of the Order, Commerce found that Jacobi Carbons AB, Tianjin Jacobi International Trading Co. Ltd., and Jacobi Carbons Industry (Tianjin) Co., Ltd. (collectively, Jacobi) should be treated as a single entity, pursuant to sections 771(33)(E), (F), and (G) of the Act, and 19 CFR 351.401(f). SeeCertain Activated Carbon from the People's Republic of China: Final Results and Partial Rescission of Third Antidumping Duty Administrative Review, 76 FR 67142, 67145, n.25 (October 31, 2011); Further, in a changed circumstances review of the order, Commerce determined that Jacobi should be collapsed with its new wholly-owned Chinese affiliate, Jacobi Adsorbent Materials (JAM), and the single entity, inclusive of JAM, should be assigned the same antidumping duty cash deposit rate assigned to Jacobi for purposes of determining antidumping duty liability in this proceeding. See Certain Activated Carbon from the People's Republic of China: Notice of Final Results of Antidumping Duty Changed Circumstances Review, 86 FR 58874 (October 25, 2021). Because there were no facts presented on the record of this review which would call into question our prior findings, we continue to treat these companies as part of a single entity for this administrative review.

¹⁹ In a changed circumstances review of the Order, Commerce found that Ningxia Huahui Environmental Technology Co., Ltd. is the successor-in-interest to Ningxia Huahui Activated Carbon Co. Ltd. (Ningxia Huahui) and should be assigned the same antidumping duty cash deposit rate assigned to Ningxia Huahui for purposes of determining antidumping duty liability in this proceeding. See Certain Activated Carbon from the People's Republic of China: Notice of Final Results of Antidumping Duty Changed Circumstances Review, 86 FR 64184 (November 17, 2021). Therefore, for these final results, we have assigned the same antidumping duty rate for cash deposit purposes to Ningxia Huahui Environmental Technology Co., Ltd. as the rate assigned to Ningxia Huahui for assessment purposes.

²⁰ See Preliminary Results PDM at 9.

²¹ See Bengbu's Letter, “Separate Rate Application,” dated July 11, 2023.

²² See Preliminary Results PDM at 8.

²³ See Antidumping Proceedings: Announcement of Change in Department Practice for Respondent Selection in Antidumping Duty Proceedings and Conditional Review of the Nonmarket Economy Entity in NME Antidumping Duty Proceedings, 78 FR 65963, 65969-70 (November 4, 2013).

²⁴ See, e.g., Certain Activated Carbon from the People's Republic of China: Final Results of Antidumping Duty Administrative Review; 2012-2013, 79 FR 70163, 70165 (November 25, 2014).

Assessment Rates

Pursuant to section 751(a)(2)(C) of the Act and 19 CFR 351.212(b), Commerce has determined, and U.S Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For DJAC, which has a final weighted-average dumping margin that is not zero or de minimis (i.e., less than 0.5 percent), we will calculate importer- (or customer-) specific per-unit duty assessment rates based on the ratio of the total amount of dumping calculated for the importer's (or customer's) examined sales to the total sales quantity associated with those sales, in accordance with 19 CFR 351.212(b)(1).²⁵ We will also calculate (estimated) ad valorem importer-specific assessment rates with which to determine whether the per-unit assessment rates are de minimis.²⁶ Where an importer- (or customer-) specific assessment rate is zero or de minimis, we will instruct CBP to liquidate the appropriate entries without regard to antidumping duties.²⁷

²⁵ See Carbon from China AR2 IDM at Comment 3.

²⁶ For calculated (estimated) ad valorem importer-specific assessment rates used in determining whether the per-unit assessment rates are de minimis, see DJAC's Final Calculation Memorandum and Jilin Bright's Final Calculation Memorandum, and attached Margin Calculation Program Logs and Outputs.

²⁷ See 19 CFR 351.106(c)(2).

For Jilin Bright, because its final weighted-average dumping margin is zero, we will instruct CBP to liquidate the appropriate entries without regard to antidumping duties.

For the respondents which were not selected for individual examination in this administrative review, and which qualified for a separate rate, the assessment rate will be equal to the rate assigned to them for the final results (i.e., 0.23 USD/kg). For the companies identified as part of the China-wide entity, we will instruct CBP to apply a per-unit assessment rate of 2.42 USD/kg to all entries of subject merchandise during the POR which was exported by those companies.

Pursuant to a refinement in our non-market economy practice, for sales that were not reported in the U.S. sales data submitted by companies individually examined during this review, we will instruct CBP to liquidate entries associated with those sales at the rate for the China-wide entity. Furthermore, where we found that an exporter under review had no shipments of the subject merchandise, any suspended entries that entered under that exporter's case number (i.e., at that exporter's cash deposit rate) will be liquidated at the rate for the China-wide entity.²⁸

²⁸ For a full discussion of this practice, see Assessment Practice Refinement, 76 FR at 65694.

Cash Deposit Requirements

The following per-unit cash deposit requirements will be effective upon publication of the final results of this administrative review for all shipments of the subject merchandise from China entered, or withdrawn from warehouse, for consumption on or after the publication date, as provided by section 751(a)(2)(C) of the Act: (1) for DJAC, Jilin Bright, and the non-examined separate rate respondents, the cash deposit rate will be equal to their weighted-average dumping margins established in the final results of this review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 2.42 USD/kg); and (4) for all non-Chinese exporters of subject merchandise which have not received their own separate rate, the cash deposit rate will be the rate applicable to the Chinese exporter(s) that supplied that non-Chinese exporter. These per-unit cash deposit requirements, when imposed, shall remain in effect until further notice.

Disclosure

We intend to disclose the calculations performed to parties in this proceeding within five days of the date of publication of this notice in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: November 3, 2023.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Bituminous Coal Surrogate Value (SV)

Comment 2: Coal Tar SV

Comment 3: Deduction of Unrefunded or Irrecoverable Value-Added Tax (VAT) from U.S. Price

Comment 4: Selection of Surrogate Financial Statements and Calculation of Surrogate Financial Ratios

Comment 5: Whether to Use Jilin Bright's Revised Factors of Production (FOP) Database

Comment 6: Adjustment of DJAC USA's Reported Indirect Selling Expense (ISE) Ratio

Comment 7: Adjustment of Natural Gas FOP and SV

Comment 8: Alleged Under-Reporting of Per-Unit Anthracite Coal Consumption for DJAC's Supplier's Impregnated Products

VI. Recommendation

Appendix II

Companies Not Eligible for a Separate Rate and Treated as Part of the China-Wide Entity

1. Beijing Pacific Activated Carbon Products Co., Ltd.

2. Bengbu Modern Environmental Co., Ltd.

3. Carbon Activated Tianjin Co., Ltd.

4. Shanxi DMD Corp.

5. Shanxi Tianxi Purification Filter Co., Ltd.

6. Sinoacarbon International Trading Co., Ltd.

7. Tianjin Maijin Industries Co., Ltd.

[FR Doc. 2023-24892 Filed 11-9-23; 8:45 am]

BILLING CODE 3510-DS-P